FEDERAL COMMUNICATIONS COMMISSION

47 CFR Part 73

[DA 02-3171; MM Docket No. 99-239; RM-9658]

Radio Broadcasting Services; Johannesburg and Edwards, CA

AGENCY: Federal Communications Commission.

ACTION: Final rule, petition for reconsideration.

SUMMARY: At the request of Amaturo Group of Los Angeles, Ltd., this document dismisses a petition for reconsideration filed by Amaturo Group of Los Angeles, Ltd., seeking reconsideration of the Report and Order in this proceeding. See 65 FR 53639, September 5, 2000. This petition for reconsideration was opposed by Adelman Communications, Inc, and petitioner filed a response. Petitioner subsequently filed a request to withdraw the petition for reconsideration, contingent on the finality of the Report and Order in MM Docket No. 99-329. This docket is now final. All parties filed affidavits attesting to the fact that it no consideration was promised or paid.

FOR FURTHER INFORMATION CONTACT: Victoria M. McCauley, Media Bureau, (202) 418-2180.

SUPPLEMENTARY INFORMATION: This is a synopsis of the Commission's Memorandum Opinion and Order in MM Docket No. 99-239, adopted December 13, 2002, and released December 16, 2002. The full text of this decision is available for inspection and copying during normal business hours in the FCC's Reference Information Center at Portals II, CY-A257, 445 12th Street, SW., Washington, DC. The complete text of this decision may also be purchased from the Commission's copy contractor, Qualex International, Portals 11, 445 12th Street, SW., Room CY-B402, Washington, DC. 20554, telephone 202-863-2893, facsimile 202-863-2898, or via e-mail qualexint@aol.com.

Federal Communications Commission.
John A. Karousos,
Assistant Chief, Audio Division, Media Bureau.

[FR Doc. 03-810 Filed 1-14-03; 8:45 am]

BILLING CODE 6712-01-M